NATIONAL AERONAUTICS AND SPACE ADMINISTRATION

[12-069]

NASA Advisory Council; Commercial Space Committee; Meeting

AGENCY: National Aeronautics and Space Administration.

ACTION: Notice of meeting.

SUMMARY: This Committee reports to the NAC. The meeting will be held for the purpose of soliciting, from the scientific community and other persons, scientific and technical information relevant to program planning.

DATES: Tuesday, September 18, 2012, 11:45 a.m.-5:30 p.m.; Local Time.

ADDRESSES: NASA Ames Research Center (ARC), The Showroom, Building M-3, NASA Ames Conference Center, 500 Severyns Road, NASA Research Park, Moffett Field, CA 94035-1000.

FOR FURTHER INFORMATION CONTACT: Mr. Thomas W. Rathjen, Human Exploration and Operations Mission Directorate, NASA Headquarters, Washington, DC 20546, (202) 358-0552, fax (202) 358-2885, or thomas.rathjen-1@nasa.gov.

SUPPLEMENTARY INFORMATION: The meeting will be open to the public up to the capacity of the room. This meeting is also available telephonically and by WebEx. Any interested person may call the USA toll free conference call number (888) 790-5969 or toll number (517) 224-3265, pass code 7234039#, to participate in this meeting by telephone. The WebEx link is https://nasa.webex.com/, the meeting number is 996 244 419, and the password is CSC@Sep18. The agenda for the meeting includes the following topics:

—Assessment of Commercial Suborbital Market

—Overview of Commercial Crew Integrated Capability Agreements

—Ames Research Center's Commercial Space Activities and Plans

—Dryden Flight Research Center's Commercial Space Activities and Plans

—Jet Propulsion Laboratory's Commercial Space Activities and Plans

It is imperative that the meeting be held on these dates to accommodate the scheduling priorities of the key participants. Attendees will be required to comply with NASA security procedures, including the presentation of a valid picture ID. Visitors must show a valid State or Federal issued picture ID, green card, or passport to enter into the NASA Research Park, and must state they are attending the NASA Advisory Council Commercial Space Committee session in The Showroom, Building M-3. All U.S. citizens and green card holders desiring to attend must provide their full name, company affiliation (if applicable), and citizenship to Thomas Rathjen via email at thomas.rathjen-1@nasa.gov by telephone at (202) 358-0552 no later than the close of business September 7, 2012. Permanent Residents will need to show residency status (valid green card) and a valid, officially issued picture identification such as a driver's license and must state they are attending the Commercial Space Committee session in The Showroom, Building M-3. Foreign Nationals must submit, no less than 15 working days (by September 1, 2012) prior to the meeting, their full name, gender, current address, citizenship, company affiliation (if applicable) to include address, telephone number, and their title, place of birth, date of birth, U.S. visa information to include type, number and expiration date, U.S. Social Security Number (if applicable), and an electronically scanned or faxed copy of their passport and visa to Thomas Rathjen, Executive Secretary, Commercial Space Committee, via email at thomas.rathjen-1@nasa.gov or fax (202) 358-2885.

Patricia D. Rausch,
Advisory Committee Management Officer, National Aeronautics and Space Administration.

[FR Doc. 2012-21181 Filed 8-27-12; 8:45 am]

BILLING CODE P